COMMISSION ON CIVIL RIGHTS

Agenda and Notice of Public Meeting of the Montana Advisory Committee

Notice is hereby given, pursuant to the provisions of the rules and regulations of the U.S. Commission on Civil Rights (Commission) and the Federal Advisory Committee Act (FACA) that a planning meeting of the Montana Advisory Committee to the U.S. Commission on Civil Rights will convene via teleconference on Wednesday, April 4, 2012 [MDT]. The meeting will begin at 2 p.m. and adjourn on or about 4 p.m. The meeting will be held by teleconference. The purpose of the meeting is for the Advisory Committee to select a project topic to study.

The public dial-in number is 1-800-516-9896; Conference ID # 8334. Hearing-impaired persons who will attend the meeting should dial 711 for relay services and enter 1-800-516-9896, followed by Conference ID # 8334. Members of the public are entitled to submit written comments; the comments must be received in the regional office by May 4, 2012. Comments may be mailed to the Rocky Mountain Regional Office, U.S. Commission on Civil Rights, 999-18th Street, Suite 1380 South, Denver, CO 80202, faxed to (303) 866-1050, or emailed to ebohor@usccr.gov. In addition, persons who desire additional information may contact Malee Craft, Regional Director, Rocky Mountain Regional Office, by phone at (303) 866-1040.

Records generated from this meeting may be inspected and reproduced at the Rocky Mountain Regional Office, as they become available, both before and after the meeting. Persons interested in the work of this advisory committee are directed to the Commission's Web site, http://www.usccr.gov, or may contact the Rocky Mountain Regional Office at the above email, address, or telephone number.

To ensure that the Commission secures an appropriate number of telephone lines for the public, persons are asked to contact the Rocky Mountain Regional Office 10 days before the meeting date either by email at ebohor@usccr.gov or by phone.

The meeting will be conducted pursuant to the rules and regulations of the Commission and FACA.

Dated in Washington, DC, March 9, 2012.
Peter Minarik,
Acting Chief, Regional Programs Coordination Unit.

[FR Doc. 2012-6143 Filed 3-13-12; 8:45 am]

BILLING CODE 6335-01-P